DEPARTMENT OF ENERGY

Federal Energy Regulatory Commission

[Project No. 3820-010]

General Electric Company, Aclara Meters LLC; Notice of Application for Transfer of License and Soliciting Comments, Motions To Intervene, and Protests

On February 9, 2016, General Electric Company (transferor) and Aclara Meters LLC (transferee) filed an application for transfer of license of the Somersworth Project No. 3820. The project is located on the Salmon Falls River in Stafford County, New Hampshire and York County, Maine. The project does not occupy federal lands.

The applicants seek Commission approval to transfer the license for the Somersworth Project from the transferor to the transferee.

Applicant Contact: For transferor: Ms. Lisa Price, General Manager, Business Development, GE Energy Management, 401 Merritt 7—PH, Norwalk, CT 06851-1000, Phone: 203-956-4670, Email: lisa.price@ge.com and John H. Grady, Jones Day, 1420 Peachtree Street NE., Suite 800, Atlanta, GA 30309, Phone: 404-581-8316, Email: jhgrady@JonesDay.com. For transferee: Mr. William “Keith” Beyea, Facilities Manager, Aclara Meters LLC, 130 Main Street, Somersworth, NH 03878, Phone: 603-749-8545, Email: William.beyea@ge.com and Mr. M. Curtis Whittaker, Rath, Young and Pignatelli, P.C., One Capital Plaza, Concord, NH 03301, Phone: 603-226-2600, Email: mcw@rathlaw.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3820-010.

Dated: February 24, 2016.
Nathaniel J. Davis, Sr.,
Deputy Secretary.

[FR Doc. 2016-04958 Filed 3-4-16; 8:45 am]

BILLING CODE 6717-01-P